DEPARTMENT OF COMMERCE

National Oceanic and Atmospheric Administration

50 CFR Part 648

[Docket No. 011005245-1245-01; I.D. 092401C]

RIN 0648-AP37

Fisheries of the Northeastern United States; Atlantic Herring Fishery; Correction

AGENCY: National Marine Fisheries Service (NMFS), National Oceanic and Atmospheric Administration (NOAA), Commerce.

ACTION: Proposed 2002 specifications for the Atlantic herring fishery; correction.

SUMMARY: This document corrects the information provided in the proposed specifications for the 2002 Atlantic herring fishery published in the Federal Register on October 29, 2001. This action is necessary because comments on the proposed specifications should be submitted to the Administrator, Northeast Region, NMFS (Regional Administrator), in a timely manner.

DATES: Comments must be received no later than 5 p.m., Eastern Standard Time, on November 28, 2001.

FOR FURTHER INFORMATION CONTACT: Myles Raizin, (978) 281-9104.

SUPPLEMENTARY INFORMATION: NMFS published proposed specifications for the 2002 Atlantic herring fishery on October 29, 2001 (66 FR 54498). The ADDRESSES section of the proposed specifications indicated that comments on the proposed specifications should be sent to the Regional Administrator “at the above address”. However, the address for the Regional Administrator was not provided. Therefore, this document corrects the ADDRESSES section of the proposed specifications by providing the mailing address for the Regional Administrator.

Correction

Accordingly, the publication on October 29, 2001, of the proposed 2002 specifications for the Atlantic herring fishery (I.D. 092401C), which was the subject of FR Doc. 01-27168, is corrected as follows:

On page 54498, in the third column, first full paragraph, third and fourth lines down remove, “Regional Administrator at the above address.”, and in its place add, “Pat Kurkul, Regional Administrator, NMFS, One Blackburn Drive, Gloucester, MA 01930.”

Authority: 16 U.S.C. 1801 et seq.

Dated: November 1, 2001.
William T. Hogarth,
Assistant Administrator for Fisheries, National Marine Fisheries Service.

[FR Doc. 01-27851 Filed 11-5-01; 8:45 am]

BILLING CODE 3510-22-S